DEPARTMENT OF HOUSING AND URBAN DEVELOPMENT

[Docket No. FR-5597-N-02]

Request for Information on Adopting Smoke-Free Policies in Public Housing Agencies (PHAs) and Multifamily Housing: Reopening of Public Comment Period

AGENCY: Office of the General Counsel, HUD.

ACTION: Request for Information, Reopening of public comments period.

SUMMARY: On October 4, 2012, HUD published a request for information in the Federal Register inviting public comment on how HUD can best continue to support the implementation of smoke-free policies for both public housing and multifamily housing. HUD was seeking information from the general public and stakeholders, including resident councils, advocacy groups, and housing providers directly impacted by or involved with the implementation of smoke-free policies and methods for supporting residents and housing providers in transitioning to smoke-free housing. The comment period for HUD's request for information closed November 5, 2012. In response to recent requests for additional time to submit public comments, HUD is announcing through this notice that it is reopening the public comment period for an additional 60-day period.

DATES: Comment Due Date: Comments on the October 4, 2012, request for information are requested on or before January 22, 2013.

ADDRESSES: Interested persons are invited to submit comments responsive to this request for information to the Office of General Counsel, Regulations Division, Department of Housing and Urban Development, 451 7th Street, SW., Room 10276, Washington, DC 20410-0001. Communications must refer to the above docket number and title and should contain the information specified in the “Request for Comments” of this notice.

Electronic Submission of Comments. Interested persons may submit comments electronically through the Federal eRulemaking Portal at http://www.regulations.gov. HUD strongly encourages commenters to submit comments electronically. Electronic submission of comments allows the commenter maximum time to prepare and submit a comment, ensures timely receipt by HUD, and enables HUD to make them immediately available to the public. Comments submitted electronically through the http://www.regulations.gov Web site can be viewed by interested members of the public. Commenters should follow instructions provided on that site to submit comments electronically.

Submission of Hard Copy Comments. Comments may be submitted by mail or hand delivery. To ensure that the information is fully considered by all of the reviewers, each commenter submitting hard copy comments, by mail or hand delivery, should submit comments or requests to the address above, addressed to the attention of the Regulations Division. Due to security measures at all federal agencies, submission of comments or requests by mail often result in delayed delivery. To ensure timely receipt of comments, HUD recommends that any comments submitted by mail be submitted at least 2 weeks in advance of the public comment deadline. All hard copy comments received by mail or hand delivery are a part of the public record and will be posted to http://www.regulations.gov without change.

No Facsimile Comments. Facsimile (FAX) comments are not acceptable.

Public Inspection of Comments. All comments submitted to HUD regarding this notice will be available, without charge, for public inspection and copying between 8 a.m. and 5 p.m. weekdays at the above address. Due to security measures at the HUD Headquarters building, an advance appointment to review the documents must be scheduled by calling the Regulations Division at 202-708-3055 (this is not a toll-free number). Copies of all comments submitted will also be available for inspection and downloading at http://www.regulations.gov.

FOR FURTHER INFORMATION CONTACT: Shauna Sorrells, Director, Public Housing Programs, Office of Public and Indian Housing, Department of Housing and Urban Development, 451 7th Street, SW., Room 4232, Washington, DC, 20410-4000, telephone number 202-402-2769 (this is not a toll-free number) or Catherine Brennan, Director, Office of Housing Assistance and Grant Administration, Office of Housing, Department of Housing and Urban Development, 451 7th Street, SW., Room 6134, Washington, DC, 20410-4000, telephone number 202-708-3000 (this is not a toll-free number). Persons with hearing- or speech-impairments may access this number through TTY by calling the toll-free Federal Relay Service at 800-877-8339.

SUPPLEMENTARY INFORMATION: On October 4, 2012 (77 FR 60712), HUD published a notice in the Federal Register requesting information from the general public, PHAs, owners and management agents, public housing residents, multifamily housing residents and other stakeholders to help inform HUD on how it might best support housing providers and residents in implementing smoke-free policies for both public housing and multifamily housing. In the October 4, 2012 notice, HUD provided a list of topics for which HUD is seeking information and established a comment due date of November 5, 2012. In response to recent requests for additional time to submit public comments, HUD is announcing through this notice that it is reopening the public comment period for an additional 60-day period. Interested persons should refer to the October 4, 2012 notice for the list of topics to which HUD is seeking information.

Dated: November 19, 2012.
Aaron Santa Anna,
Assistant General Counsel, Regulations Division, Office of General Counsel.

[FR Doc. 2012-28519 Filed 11-21-12; 8:45 am]

BILLING CODE 4210-67-P